DEPARTMENT OF COMMERCE

National Oceanic and Atmospheric Administration

[RTID 0648-XB025]

South Atlantic Fishery Management Council; Public Hearings

AGENCY: National Marine Fisheries Service (NMFS), National Oceanic and Atmospheric Administration (NOAA), Commerce.

ACTION: Notice of public hearings.

SUMMARY: The South Atlantic Fishery Management Council (Council) will hold a series of public hearings via webinar pertaining to Amendment 10 to the Coral, Coral Reef and Live Hard Bottom Habitat Fishery Management Plan (FMP). The amendment addresses establishing a Shrimp Fishery Access Area along the eastern border of the northern extension of the Oculina Bank Coral Habitat Area of Particular Concern (HAPC).

DATES: The public hearings will be held via webinar on May 12 and 13, 2021.

ADDRESSES: Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The scoping meetings will be conducted via webinar and accessible via the internet from the Council's website at https://safmc.net/safmc-meetings/public-hearings-scoping-meetings/. The public hearings will begin at 5 p.m. Registration for the webinars is required. Registration information, a copy of the Public hearing summary and presentation, and an online public comment form will be posted on the Council's website at https://safmc.net/safmc-meetings/public-hearings-scoping-meetings/ on April 28, 2021. The Council will accept public comment on Coral Amendment 10 from April 28, 2021 through 5 p.m. on May 14, 2021.

Amendment 10 to the Coral, Coral Reef and Live Hard Bottom Habitat FMP

The draft amendment currently addresses a request from the rock shrimp industry to create a Shrimp Fishery Access Area (SFAA) along the eastern boundary of the northern extension of the Oculina Bank Coral HAPC to allow rock shrimp trawling and access to historic rock shrimp fishing grounds. Vessels fishing for rock shrimp in the South Atlantic region are required to carry approved Vessel Monitoring Systems (VMS) to harvest or possess rock shrimp. Establishing a SFAA would allow access to the area at times where the species is found slightly west of the existing boundary while retaining the integrity of the eastern boundary of the Oculina Bank Coral HAPC, maintaining the prohibition on all other bottom tending gear.

During the public hearings, Council staff will present an overview of the amendment and will be available to answer questions. Members of the public will have an opportunity to go on record to record their comments for consideration by the Council.

Special Accommodations

These hearings are physically accessible to people with disabilities. Requests for auxiliary aids should be directed to the Council office (see ADDRESSES) 5 days prior to the meeting.

Note: The times and sequence specified in this agenda are subject to change.

Authority: 16 U.S.C. 1801 et seq.

Dated: April 20, 2021.
Tracey L. Thompson,
Acting Deputy Director, Office of Sustainable Fisheries, National Marine Fisheries Service.

[FR Doc. 2021-08540 Filed 4-23-21; 8:45 am]

BILLING CODE 3510-22-P